DEPARTMENT OF COMMERCE

National Oceanic and Atmospheric Administration

RIN 0648-XF592

Marine Mammals; File No. 21158

AGENCY: National Marine Fisheries Service (NMFS), National Oceanic and Atmospheric Administration (NOAA), Commerce.

ACTION: Notice; receipt of application for permit amendment.

SUMMARY: Notice is hereby given that Robert Garrott, Ph.D., Montana State University, 310 Lewis Hall, Bozeman, MT 59717, has applied in due form for an amendment to Scientific Research Permit No. 21158 for research on Weddell seals (Leptoncychotes weddellii).

DATES: Written, telefaxed, or email comments must be received on or before December 8, 2017.

ADDRESSES: The application and related documents are available for review by selecting “Records Open for Public Comment” from the “Features” box on the Applications and Permits for Protected Species home page, https://apps.nmfs.noaa.gov, and then selecting File No. 21158 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Sara Young, (301) 427-8401.

SUPPLEMENTARY INFORMATION: The subject amendment to Permit No. 21158 is requested under the authority of the Marine Mammal Protection Act of 1972, as amended (16 U.S.C. 1361 et seq.), the regulations governing the taking and importing of marine mammals (50 CFR part 216).

Permit No. 21158, issued on September 25, 2017, (82 FR 48985), authorizes the permit holder to conduct long-term studies of the Erebus Bay, Antarctica, Weddell seal population to evaluate how temporal variation in the marine environment affects individual life histories and the population dynamics of long-lived mammal. The permit holder is requesting the permit be amended to increase the number of seal pups authorized to be flipper tagged from a total of 675 (take table lines 1 [n=515], 2 [n=10], and 3 [n=150]) to a total take of 800 pups, by increasing the number of takes in line 1 from 515 to 640. This field season the research team has observed an abnormally high number of pups and current take numbers are not be adequate to meet the stated scientific goals of tagging all pups produced in the Erebus Bay colonies each year.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 2, 2017.
Julia Harrison,
Chief, Permits and Conservation Division, Office of Protected Resources, National Marine Fisheries Service.

[FR Doc. 2017-24248 Filed 11-7-17; 8:45 am]

BILLING CODE 3510-22-P